DEPARTMENT OF COMMERCE

International Trade Administration

[A-552-802]

Certain Frozen Warmwater Shrimp From the Socialist Republic of Vietnam: Notice of Correction to Amended Final Determination of Sales at Less Than Fair Value Pursuant to Court Decision

AGENCY: Import Administration, International Trade Administration, Department of Commerce.

DATES: Effective Date: September 29, 2010.

FOR FURTHER INFORMATION CONTACT: Matthew Renkey, AD/CVD Operations, Office 9, Import Administration, International Trade Administration, U.S. Department of Commerce, 14th Street and Constitution Ave., NW., Washington, DC 20230; telephone: (202) 482-2312.

SUPPLEMENTARY INFORMATION:

Correction

On September 2, 2010, the Department of Commerce (“Department”) published the amended final determinations pursuant to court decision in the investigations of certain frozen warmwater shrimp from Brazil, India, the People's Republic of China, Thailand, and the Socialist Republic of Vietnam. See Certain Frozen Warmwater Shrimp from Brazil, India, the People's Republic of China, Thailand, and the Socialist Republic of Vietnam: Notice of Amended Final Determinations of Sales at Less than Fair Value Pursuant to Court Decision, 75 FR 53947 (September 2, 2010) (“Amended Final Determinations”). The Amended Final Determinations stated that the Department determined dusted shrimp to be within the scope of the investigations. Subsequent to the announcement and release of the Amended Final Determinations, the Department identified an inadvertent error. Specifically, in the table listing the antidumping duty rates for the companies in the Socialist Republic of Vietnam, several companies were inadvertently omitted. Also, incorrect antidumping duty margins were listed for three of the Vietnamese companies. To resolve these discrepancies, the table below lists all of the Vietnamese companies along with the correct margin.

Vietnam ¹
Manufacturer/exporter | Margin (percent)
Camau Frozen Seafood Processing Import Export Corporation ² | 5.24
Kim Anh Company Limited ³ | 25.76
Minh Phu Seafood Corporation ⁴ | 4.38
Minh Hai Joint Stock Seafoods Processing Company ⁵ | 4.30
Amanda Foods (Vietnam) Ltd.⁶ | 4.57
Aquatic Products Trading Company ⁷ | 4.57
Bac Lieu Fisheries Company Limited ⁸ | 4.57
Coastal Fisheries Development Corporation ⁹ | 4.57
Cai Doi Vam Seafood Import-Export Company ¹⁰ | 4.57
Cam Ranh Seafoods Processing Enterprise Company ¹¹ | 4.57
Can Tho Agriculture and Animal Products Import Export Company ¹² | 4.57
Cantho Animal Fisheries Product Processing Export Enterprise ¹³ | 4.57
C.P. Vietnam Livestock Co. Ltd. | 4.57
Cuu Long Seaproducts Company ¹⁴ | 4.57
Danang Seaproducts Import Export Corporation ¹⁵ | 4.57
Hanoi Seaproducts Import Export Corporation ¹⁶ | 4.57
Investment Commerce Fisheries Corporation ¹⁷ | 4.57
Kien Giang Sea-Product Import-Export Company ¹⁸ | 4.57
Minh Hai Export Frozen Seafood Processing Joint-Stock Company ¹⁹ | 4.57
Minh Hai Seaproducts Import Export Corporation ²⁰ | 4.57
Ngoc Sinh Private Enterprise ²¹ | 4.57
Nha Trang Fisheries Joint Stock Company ²² | 4.57
Nha Trang Seaproduct Company ²³ | 4.57
Pataya Food Industries (Vietnam) Ltd.²⁴ | 4.57
Phu Cuong Seafood Processing and Import-Export Company Limited ²⁵ | 4.57
Phuong Nam Co. Ltd.²⁶ | 4.57
Sao Ta Foods Joint Stock Company ²⁷ | 4.57
Soc Trang Aquatic Products and General Import Export Company ²⁸ | 4.57
Song Huong ASC Import-Export Company Ltd.²⁹ | 4.57
Thuan Phuoc Seafoods and Trading Corporation ³⁰ | 4.57
UTXI Aquatic Products Processing Company ³¹ | 4.57
Viet Foods Co., Ltd.³² | 4.57
Viet Nhan Company | 4.57
Viet Hai Seafood Company Ltd.³³ | 4.57
Vinh Loi Import Export Company ³⁴ | 4.57
Vietnam-Wide Rate | 25.76
¹ The Department has determined that Bac Lieu Fisheries Joint Stock Company (“Bac Lieu JSC”), Cadovimex Seafood Import-Export and Processing Joint Stock Company (“Cadovimex Vietnam”), Soc Trang Seafood Joint Stock Company (“STAPIMEX JSC”), Thuan Phuoc Seafoods and Trading Corporation (“Thuan Phuoc JSC”), and UTXI Aquatic Products Processing Corporation (“UTXI Corp.”) are successors-in-interest, respectively, to Bac Lieu Fisheries Company Limited (“Bac Lieu Limited”), Cai Doi Vam Seafood Import-Export Company (“Cadovimex”), Soc Trang Aquatic Products and General Import Export Company (“STAPIMEX”), Thuan Phuoc Seafoods and Trading Corporation (“Thuan Phuoc SOE”), and UTXI Aquatic Products Processing Company (“UTXI”). See Frozen Warmwater Shrimp from Vietnam: Notice of Final Results of Antidumping Duty Changed Circumstances Reviews, 74 FR 42050 (August 20, 2009).
² Also known as (“AKA”) Camimex and Camau Seafood Factory No. 4.
³ Not a separate rate.
⁴ AKA Minh Phu Seafood Export-Import Corporation, Minh Phu, Minh Phu Seafood Pte., Minh Qui Seafood Co. Ltd., Minh Qui, Minh Phat Seafood Co. Ltd. and Minh Phat.
⁵ AKA Seaprodex Minh Hai.
⁶ AKA Amanda VN and Amanda.
⁷ AKA APT and A.P.T. Co.
⁸ AKA Bac Lieu, BACLIEUFIS, Bac Lieu Fis, Bac Lieu Fisheries Co. Ltd., Bac Lieu Fisheries Limited Company and Bac Lieu Fisheries Company Ltd.
⁹ AKA COFIDEC.
¹⁰ AKA Cadovimex.
¹¹ AKA Cam Ranh.
¹² AKA Cataco, Duyen Hai Foodstuffs Processing Factory, Caseafood, Coseafex and Cantho Seafood Export.
¹³ AKA Cafatex, Cafatex Vietnam, Xi Nghiep Che Bien Thuy Suc San Xuat Khau Can Tho, CAS, CAS Branch, Cafatex Saigon, Cafatex Fishery Joint Stock Corporation, Cafatex Corporation and Taydo Seafood Enterprise.
¹⁴ AKA Cuu Long Seapro.
¹⁵ AKA Seaprodex Danang, Tho Quang Seafood Processing and Export Company and Tho Quang.
¹⁶ AKA Seaprodex Hanoi.
¹⁷ AKA INCOMFISH, Investment Commerce Fisheries Corp., INCOMFISH CORP. and INCOMFISH CORPORATION.
¹⁸ AKA KISIMEX, Kien Giang Seaproduct Import & Export Company, Kien Giang Seaproduct Import and Export Company, Kien Giang Seaproduct Import Export Co., Kien Giang Sea Product Import & Export Co., Kien Giang Sea Product Import and Export Company, Kien Giang Sea Product Import & Export Company, Kien Giang Sea Product Import & Export Co. and Kien Giang Sea Product Im. & Ex. Co.
¹⁹ AKA Minh Hai Jostoco.
²⁰ AKA Seaprimexco.
²¹ AKA Ngoc Sinh Seafoods, Ngoc Sinh Fisheries, Ngoc Sinh Private Enterprises, Ngoc Sinh Seafoods Processing and Trading Enterprises and Ngoc Sinh.
²² AKA Nhatrang Fisheries Joint Stock Company, Nha Trang Fisco and Nhatrang Fisco.
²³ AKA Nha Trang Seafoods.
²⁴ AKA Pataya VN.
²⁵ AKA Phu Cuong Seafood Processing Import-Export Company Ltd., Phu Cuong Co., Phu Cuong, Phu Cuong Seafood Processing & Import-Export Co. Ltd., Phu Cuong Seafood Processing, Phu Cuong Co. Ltd. and Phu Cuong Seafood Processing Import & Export Company Limited.
²⁶ AKA Phuong Nam Company Limited and Phuong Nam.
²⁷ AKA Fimex VN, Saota Seafood Factory and Sao Ta Seafood Factory.
²⁸ AKA STAPIMEX.
²⁹ AKA Song Huong ASC Joint Stock Company, SOSEAFOOD, ASC, Song Huong Import Export Seafood Joint Stock Company, Song Huong Import-Export Seafood Joint Stock Company, Song Huong Import Export Seafood Company, Song Huong Seafood Import-Export Company, Song Huong Seafood Import Export Co., Song Huong Seafood Im-Export Co., SongHuong and Songhuong Joint Stock Company.
³⁰ AKA Frozen Seafoods Factory No. 32.
³¹ AKA UTXI, UTXI Co. Ltd., UT XI Aquatic Products Processing Company and UT-XI Aquatic Products Processing Company.
³² AKA Viet Foods, Nam Hai Exports Food Stuff Limited, Nam Hai Export Foodstuff Company Ltd., Vietfoods Co. Ltd., Viet Foods Company Limited and Vietfoods Company Limited.
³³ AKA Vietnam FishOne, Vietnam Fish-One Company Co. Ltd., Vietnam Fish-One, Vietnam Fish-One Co. Ltd., Vietnam Fish One Co. Ltd., Vietnam Fish One Company Limited and Vietnam Fish-One Company Limited.
³⁴ AKA VIMEXCO, Vinh Loi Import/Export Co., VIMEX, VinhLoi Import Export Company and Vinh Loi Import-Export Company.

This notice is published in accordance with section 777(i) of the Tariff Act of 1930, as amended.

Dated: September 24, 2010.
Ronald K. Lorentzen,
Deputy Assistant Secretary for Import Administration.

[FR Doc. 2010-24585 Filed 9-28-10; 8:45 am]

BILLING CODE 3510-DS-P